DEPARTMENT OF THE INTERIOR

Fish and Wildlife Service

Notice of Receipt of Applications for Endangered Species Recovery Permit

AGENCY: Fish and Wildlife Service, Interior.

ACTION: Notice of receipt of permit applications.

SUMMARY: The following applicants have applied for a scientific research permit to conduct certain activities with endangered species pursuant to section 10(a)(1)(A) of the Endangered Species Act of 1973, as amended (16 USC 1531 et seq.). The U.S. Fish and Wildlife Service solicits review and comment from local, State, and Federal agencies, and the public on the following permit requests.

Permit No. TE-794784

Applicant: Affinis Environmental Services, El Cajon, California.

The permittee requests a permit amendment to remove/reduce to possession the Eryngium aristulatum var. parishii (San Diego button celery), the Orcuttia californica (California orcutt grass), the Rorippa gambellii (Gambel's water cress), and the Dodecahema leptoceras (Slender-horned spineflower) in San Diego County, California in conjunction with species documentation surveys for the purpose of enhancing their survival.

Permit No. TE-004939

Applicant: Gordon Pratt, Riverside, California.

The permittee requests a permit amendment to take (live capture, handle, remove from the wild, propagate, conduct research, and release) the Palos Verdes blue butterfly (Glaucopsyche lygdamus palosverdesensis) in Los Angeles and Riverside Counties, California in conjunction with species enhancement efforts and research for the purpose of enhancing its survival.

Permit No. TE-054395

Applicant: Bureau of Land Management, Medford, Oregon.

The applicant requests a permit to remove/reduce to possession the Fritillaria gentneri (Gentner's fritillary) in Jackson and Josephine Counties, Oregon in conjunction with species augmentation efforts for the purpose of enhancing its survival.

Permit No. TE-749872

Applicant: David Germano, Bakersfield, California.

The permittee requests a permit amendment to take (radio-tag) the giant kangaroo rat (Dipodomys ingens), the tipton kangaroo rat (Dipodomys nitratoides nitratoides), and the blunt-nosed leopard lizard (Gambelia sila) in California in conjunction with ecological research throughout the range of each species for the purpose of enhancing their survival.

Permit No. TE-003483

Applicant: U.S. Geological Survey, Hawaii National Park, Hawaii.

The permittee requests a permit amendment to take (capture, collect blood, and band) the Molokai creeper (=kakawahie)(Paroreomyza flammea), the Molokai thrush (=oloma'o) (Myadestes lanaiensis rutha), the crested honeycreeper (='akohekohe) (Palmeria dolei), the Maui' akepa (Loxops coccineus ochraceus), the Maui parrotbill (Pseudonestor xanthophyrys), the po'ouli (Melamprosops phaeosoma), and the Maui nukupu'u (Hemignathus lucidus affinis) on the Islands of Hawaii, Kauai, Oahu, Maui, Molokai, Lanai, and Laysan in conjunction with demographic and ecological studies for the purpose of enhancing their survival.

Permit No. TE-781485

Applicant: Kurt Campbell, Temecula, California.

The permittee requests a permit amendment to take (harass by survey) the southwestern willow flycatcher (Empidonax traillii extimus) in Nevada and Arizona in conjunction with surveys for the purpose of enhancing its survival.

Permit No. TE-702631

Applicant: Regional Director, Region 1, U.S. Fish and Wildlife Service, Portland, Oregon.

The permittee requests a permit amendment to take the Buena Vista Lake shrew (Sorex ornatus relictus) and remove/reduce to possession the Hackelia venusta (showy stickseed). Take and remove/reduce to possession activities will be conducted throughout the range of each species in conjunction with recovery efforts for the purpose of enhancing their propagation and survival.

Permit No. TE-667512

Applicant: Howard Shellhammer, San Jose, California.

The permittee requests a permit amendment to take (collect and clip hair) the salt marsh harvest mouse (Reithrodontomys raviventris) throughout the range of the species in conjunction with genetic research and population studies for the purpose of enhancing its survival.

Permit No. TE-055011

Applicant: Bureau of Land Management Pine Hill Preserve, Folsom, California.

The applicant requests a permit to remove/reduce to possession the Fremontodendrom californicum ssp. Decumbens (Pine Hill flannelbush) in El Dorado County, California in conjunction with population research for the purpose of enhancing its survival.

Permit No. TE-758175

Applicant: John and Jane Griffith, Calumet, Michigan.

The permittee requests a permit amendment to take (harass by survey using taped vocalizations) the least Bell's vireo (Vireo bellii pusillus) in Monterey, San Luis Obispo, Kern, Los Angeles, Orange, Riverside, San Bernardino, San Diego, Santa Barbara, Imperial, and Ventura Counties, California and Yuma County, Arizona in conjunction with surveys for the purpose of enhancing its survival.

Permit No. TE-005956

Applicant: U.S. Geological Survey, Biological Resources Division, Western Fisheries Research Center, Reno, Nevada.

The permittee requests a permit amendment to take (capture with minnow traps, dip nets, and seines; and harass by installing underwater video equipment) the White River spinedace (lepidomeda albivalis), and to take (capture, mark, and translocate) the Ash Meadows speckled dace (Rhinichthys osculus) in Nye County, Nevada in conjunction with surveys for the purpose of enhancing their survival.

Permit No. TE-055013

Applicant: San Bernardino National Forest, Fawnskin, California.

The applicant requests a permit to remove/reduce to possession the Astragalus albens (Cushenbury milk-vetch), the Astragalus brauntonii (Braunton's milk-vetch), the Astragalus lentiginosus var. coachellae (Coachella Valley milk-vetch), the Astragalus tricarinatus (triple-ribbed milk-vetch), the Berberis nevinii (Nevin's barberry), the Dodecahema leptoceras (slender-horned spineflower), the Eriastrum densifolium ssp. sanctorum (Santa Ana River wollystar), the Eriogonum ovalifolium var. vineum (Cushenbury buckwheat), the Lesquerella kingii ssp. Bernardina (San Bernardino bladderpod), the Oxytheca parishii var. goodmaniana (Cushenbury oxytheca), the Poa atropurpurea (San Bernardino bluegrass), the Sidalcea pedata (bird-foot checkerbloom), the Taraxacum californicum (California dandelion), and the Thelypodium stenopetalum (Slender-petaled mustard) in San Bernardino County, California in conjunction with species documentation surveys and restoration efforts for the purpose of enhancing their survival.

Permit No. TE-055397

Applicant: California Department of Parks and Recreation, Santa Cruz, California.

The applicant requests a permit to take (harass by survey and kill by fire) the Ohlone tiger beetle (Cicendela ohlone) in Santa Cruz County, California in conjunction with habitat enhancement for the purpose of enhancing its survival.

Permit No. TE-025203

Applicant: David Griffin, Jamul, California.

The permittee requests a permit amendment to take (survey by pursuit) the Quino checkerspot butterfly (Euphydryas editha quino) in San Diego County, California in conjunction with demographic studies for the purpose of enhancing its survival.

Permit No. TE-821967

Applicant: Paul Galvin, Irvin, California.

The permittee requests a permit amendment to take (harass by banding) the least Bell's vireo (Vireo bellii pusillus) and to take (harass by survey) the California least tern (Sterna antillarum browni) throughout the range of each species in California in conjunction with surveys for the purpose of enhancing their survival.

DATES: Written comments on these permit applications must be received within 30 days of the date of publication of this notice.

ADDRESSES: Written data or comments should be submitted to the Chief, Endangered Species, Ecological Services, U.S. Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: May 1, 2002.
Rowan W. Gould,
Acting Regional Director, Region 1, Portland, Oregon.

[FR Doc. 02-13421 Filed 5-29-02; 8:45 am]

BILLING CODE 4310-55-P